DEPARTMENT OF DEFENSE

Office of the Secretary

Defense Health Board (DHB) Meeting

AGENCY: Department of Defense (DoD).

ACTION: Notice of meeting.

SUMMARY: On October 14-15, 2009, the Traumatic Brain Injury Family Caregiver Panel will meet to: review and vote to approve the Traumatic Brain Injury Family Caregiver Curriculum, address the issue of curriculum dissemination, review and approve the contents of the Mild Traumatic Brain Injury Education Guide, and devise a dissemination plan for that guide. Portions of the meeting are open to the public (see the Agenda in the SUPPLEMENTARY INFORMATION section of this notice for further details).

DATES: The meeting will be held on October 14 from 9:15 a.m. to 5 p.m. and on October 15, 2009, from 9:15 a.m. to 2:30 p.m.

Information regarding dates and the submission of written statements can be found in the SUPPLEMENTARY INFORMATION section of this notice.

ADDRESSES: The meeting will be held at the Marriott Pooks Hill Hotel, 5151 Pooks Hill Road, Bethesda, MD 20814.

Written statements may be mailed to the address under FOR FURTHER INFORMATION CONTACT, e-mailed to dhb@ha.osd.mil or faxed to (703) 681-3317.

Additional information, agenda updates, and meeting registration are available online at the Defense Health Board Web site, http://www.ha.osd.mil/dhb.

FOR FURTHER INFORMATION CONTACT: Commander Edmond F. Feeks, Executive Secretary, Defense Health Board, Five Skyline Place, 5111 Leesburg Pike, Suite 810, Falls Church, Virginia 22041-3206, (703) 681-8448, ext. 1228 (phone), (703)-681-3317 (fax), e-mail: edmond.feeks@tma.osd.mil.

SUPPLEMENTARY INFORMATION: Pursuant to the Federal Advisory Committee Act of 1972 (5 U.S.C., Appendix as amended), the Sunshine in the Government Act of 1976 (5 U.S.C. 552b, as amended), and 41 CFR 102-3.150, and in accordance with section 10(a)(2) of Public Law, DoD announces that the Traumatic Brain Injury Family Caregiver Panel, a subcommittee of the Defense Health Board (DHB), will meet on October 14 and 15, 2009.

Agenda

Pursuant to 5 U.S.C. 552b, as amended, and 41 CFR 102-3.140 through 102-3.165 and subject to availability of space, the Defense Health Board meeting is open to the public on October 14 from 9:15 a.m. to 12 p.m. and 1:30 to 5 p.m., and on October 15 from 9:15 a.m. to 12 p.m. and 1 to 2:30 p.m.

October 14, 2009

The Panel will vote to approve the Family Caregiver Curriculum and discuss the dissemination plan. In addition, the Panel will be briefed by Lt Col Randy Mauffray regarding the Center of Excellence For Medical Multimedia as it relates to the multimedia component of the curriculum.

9:15 a.m.-12 p.m. (Open Session).

12 p.m.-1:30 p.m. (Closed Administrative Working Meeting).

1:30 p.m.-5 p.m. (Open Session).

October 15, 2009

The Panel will review, refine, and approve the contents of the Mild Traumatic Brain Injury Patient Education Tool and will discuss a dissemination plan.

9:15 a.m.-12 p.m. (Open Session).

12:00 p.m.-1 p.m. (Closed Administrative Working Meeting).

1 p.m.-2:30 p.m. (Open Session).

Written Statements

Anyone wishing to provide input to the Defense Health Board should submit a written statement in accordance with 41 CFR 102-3.140(c) and section 10(a)(3) of the Federal Advisory Committee Act, and the procedures described in this notice. Written statements should be not longer than two type-written pages and must address the following detail: The issue, discussion, and a recommended course of action. Supporting documentation may also be included as needed to establish the appropriate historical context and to provide any necessary background information.

Individuals desiring to submit a written statement may do so through the Board's Designated Federal Officer (see FOR FURTHER INFORMATION CONTACT) at any point. However, if the written statement is not received at least 10 calendar days prior to the meeting, which is subject to this notice, then it may not be provided to or considered by the Panel until the next open meeting.

The Designated Federal Officer will review all timely submissions with the Traumatic Brain Injury Family Caregiver Panel Chairperson, and ensure they are provided to members of the Panel before the meeting that is subject to this notice. After reviewing the written comments, the Chairperson and the Designated Federal Officer may choose to invite the submitter of the comments to orally present their issue during an open portion of this meeting or at a future meeting.

The Designated Federal Officer, in consultation with the Panel Chairperson, may, if desired, allot a specific amount of time for members of the public to present their issues for review and discussion by the Panel.

Registration

The public is encouraged to register for the meeting.

Special Accommodations

If special accommodations are required to attend (sign language, wheelchair accessibility) please contact Ms. Lisa Jarrett at (703) 681-8448 ext. 1280 by October 4, 2009.

Dated: September 4, 2009.
Mitchell S. Bryman,
Alternate OSD Federal Register Liaison Officer, Department of Defense.

[FR Doc. E9-21855 Filed 9-9-09; 8:45 am]

BILLING CODE 5001-06-P